DEPARTMENT OF ENERGY

Federal Energy Regulatory Commission

[Project No. 2277]

AmerenUE; Notice of Scoping Meetings and Intent To Prepare an Environmental Document

February 13, 2007.

By letter dated February 2, 2007 to the Federal Energy Regulatory Commission, AmerenUE (licensee) affirmed its intention to rebuild the upper reservoir of the Taum Sauk Pumped Storage Project (FERC No. 2277). The Taum Sauk Project is located in Reynolds County, Missouri near the town of Lesterville.

The upper reservoir was severely damaged during an uncontrolled breach of the northwest corner of the reservoir on December 14, 2005. The proposed project involves rebuilding the upper reservoir with a concrete-faced, symmetrical, roller compacted concrete (RCC) dam. The work would involve the complete removal of the existing rockfill dike that forms the upper reservoir and the construction of an RCC dam using the existing rockfill as the aggregate.

The Commission intends to prepare an environmental document under the National Environmental Policy Act (NEPA) for the Taum Sauk upper reservoir rebuilding project. The NEPA document will be used by the Commission to identify environmental impacts and to identify measures that would help mitigate the impacts caused by construction activities. To support and assist our environmental review, we are beginning a public scoping process to ensure that all pertinent issues are identified and analyzed, and that the environmental document is thorough and balanced.

We invite the participation of governmental agencies, non-governmental organizations, and the general public in the scoping process, and will be preparing Scoping Document (SD) to provide information on the proposed project and to solicit written and verbal comments and suggestions on our preliminary list of issues and alternatives to be addressed in the NEPA document. The SD will be distributed to parties on the mailing list for this project, as well as other individuals and organizations that we have identified as having an interest in the Taum Sauk Project. The SD will be available from our Public Reference Room at (202) 208-1371. It will also be accessible online at http://www.ferc.gov using the “eLibrary” link—select “General Search”, and enter “P-2277” in the “Docket Number” box. You may also call (202)-208-2222 for assistance.

Following distribution of the SD, Commission staff will hold two scoping meetings on March 12, 2007, to receive input on the appropriate scope of the environmental analysis. The first meeting will be with the resource agencies to focus on their concerns and the second meeting will be with the general public to receive their input. Each meeting is open and the public and agencies may attend either or both meetings. The times and locations of these meetings are as follows:

Agency Scoping Meeting

Date: March 12, 2007.

Time: 9 a.m. to 11:30 a.m. (CST).

Location: Missouri Department of Natural Resources, Elm Street Conference Center, 1738 East Elm Street, Jefferson City, Missouri 65102.

Public Scoping Meeting

Date: March 12, 2007.

Time: 7 p.m. to 9 p.m. (CST).

Location: Lesterville High School, State Highway 21, Lesterville, Missouri 63654.

At the scoping meetings, Commission staff will: (1) Summarize the environmental issues tentatively identified for analysis in the environmental document; (2) solicit from the meeting participants all available information, especially quantifiable data, on the resources at issue; (3) encourage statements from experts and the public on issues that should be analyzed in the Commission's NEPA document, including viewpoints in opposition to, or in support of, staff's preliminary views expressed in the SD; (4) determine the resource issues to be addressed in the NEPA document; and (5) identify those issues that require a detailed analysis, as well as those issues that do not require a detailed analysis. Staff will also be soliciting input on potential measures that could be implemented to minimize construction-related impacts. The meetings will be recorded by a stenographer and become part of the formal record for this project.

Individuals, organizations, and agencies with environmental expertise and concerns are encouraged to attend the meetings and assist Commission staff in defining and clarifying the issues to be addressed in the NEPA document. Interested parties may also file written scoping comments. All such comments (original and eight copies) should be filed with: Magalie R. Salas, Secretary, Federal Energy Regulatory Commission, 888 First Street, NE., Washington, DC 20426. The deadline for filing scoping comments is April 11, 2007.

Scoping comments may be filed electronically via the Internet in lieu of paper. See 18 CFR 385.2001(a)(1)(iii) or the instructions on the Commission's Web site (http://www.ferc.gov) under the “e-Filing” link.

Please direct any questions about the scoping process to Thomas J. LoVullo at (202) 502-8900.

Magalie R. Salas,
Secretary.

[FR Doc. E7-3185 Filed 2-23-07; 8:45 am]

BILLING CODE 6717-01-P